SMALL BUSINESS ADMINISTRATION

Data Collection Available for Public Comments

ACTION: 60-day notice and request for comments.

SUMMARY: The Small Business Administration (SBA) intends to request approval, from the Office of Management and Budget (OMB) for the collection of information described below. The Paperwork Reduction Act (PRA) of 1995, 44 U.S.C. Chapter 35 requires federal agencies to publish a notice in the Federal Register concerning each proposed collection of information before submission to OMB, and to allow 60 days for public comment in response to the notice. This notice complies with that requirement.

DATES: Submit comments on or before October 29, 2013.

ADDRESSES: Send all comments to Patrick Kelley, Deputy Associate Administrator, Office of Capital Access, Small Business Administration, 409 3rd Street, 8th Floor, Washington, DC 20416.

FOR FURTHER INFORMATION CONTACT: Patrick Kelley, Deputy Associate Administrator, 202-205-0067, patrick.kelley@sba.gov, or Curtis B. Rich, Management Analyst, 202-205-7030, curtis.rich@sba.gov;

SUPPLEMENTARY INFORMATION: The Small Business Investment Act authorizes SBA to guarantee a debenture issued by a Certified Development Company (CDC). The proceeds from each debenture are used to fund loans to eligible small business concerns (“504 loans”). 15 U.S.C. 697(a). The Small Business Act and the Small Business Investment Act mandate that all guaranteed loans provided by the SBA to small business concerns (SBCs) must have a reasonable assurance of ability to repay. See 15 U.S.C. 636(a)(6) and 687(f); see also 13 CFR 120.150. The information collections described below relate to the application for a 504 loan, SBA Form 1244 (OMB Control Number 3245-0071), and the annual report required from Certified Development Companies (CDCs), CDC Annual Report Guide, SBA Form 1253 (OMB Control Number 3245-0074). SBA is proposing to make changes to these information collections in order to conform them to pending changes in the 504 loan program. Specifically, changes are pending that will revise the exhibits required to be attached to the 504 application form, and to clarify in the CDC Annual Report Guide the consequences for the CDC if it fails to file the CDC Annual Report in a timely manner.

Solicitation of Public Comments

SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

Summary of Information Collection

(1) Title: Application for Section 504 Loan.

Description of Respondents: Small Business Concerns applying for a section 504 loan and Certified Development Companies.

Form Number: SBA Form 1244: The information collected on SBA Form 1244 is used to review the creditworthiness and repayment ability of the Small Business Concern (SBC), the eligibility of the SBC for SBA financial assistance, the terms and conditions of the 504 loan for which the SBC is applying, and to determine whether there is a reasonable assurance of the SBC's ability to repay the loan. The form is also used by CDCs to request SBA's guarantee on the debenture.

Total Estimated Annual Responses: 6,800.

Total Estimated Annual Hour Burden: 14,195.

(2) Title: Certified Development Company (CDC) Annual Report Guide.

Description of Respondents: Certified Development Companies.

Form Number: SBA Form 1253: Agency regulations at 13 CFR 120.830 require CDCs to submit an annual report which contains financial statements, operational and management information. It is used by the district offices, Office of Financial Assistance, and Office of Credit Risk Management to obtain information from the CDCs.

Total Estimated Annual Responses: 266.

Total Estimated Annual Hour Burden: 7,488.

Dated: August 26, 2013.
Yvonne K. Wilson,
Chief, Administrative Information Branch.

[FR Doc. 2013-21245 Filed 8-29-13; 8:45 am]

BILLING CODE 8025-01-P